DEPARTMENT OF TRANSPORTATION

Federal Highway Administration

Environmental Impact Statement: Gaming Area Access, Gilpin, Clear Creek and Jefferson Counties, Colorado

AGENCY: Federal Highway Administration (FHWA), DOT.

ACTION: Notice of intent.

SUMMARY: The FHWA is issuing this Notice of Intent to advise the public that an Environmental Impact Statement (EIS) will be prepared for a proposed transportation project to improve access into the gaming communities of Black Hawk and Central City within Gilpin County, Colorado.

FOR FURTHER INFORMATION CONTACT: Eva LaDow or Edrie Vinson, FHWA Colorado Division, 555 Zang Street, Room 250, Lakewood, Colorado 80228. Telephone (303) 969-6730 Extensions 341 and 378, respectively.

SUPPLEMENTARY INFORMATION: The FHWA in cooperation with the Colorado Department of Transportation Region 1 will prepare an Environmental Impact Statement (EIS) on a proposal to improve transportation access into the gaming communities of Black Hawk and Central City. The project area is located west of Denver and includes roadways within Jefferson, Gilpin and Clear Creek counties.

The two primary access routes to towns of Black Hawk and Central City (U.S. 6 and S.H. 119) are experiencing dramatically increased traffic volumes and accident levels since 1991 when limited stakes gaming was approved by the voters of Colorado. Both roadways are located within steep mountain canyons paralleling Clear Creek, and are primarily two-lane with narrow shoulders and limited passing locations. Some safety improvements including pull-outs, centerline rumble strips, guardrail, curve widening, passing lanes and intersection modifications have been constructed, but no overall plan for improving safety, accommodating future traffic growth and/or accommodating alternative modes of transportation has been developed.

Alternatives to be examined in this EIS include improvements to existing S.H. 119; new alignment corridors; alternative modes including busways and rail; Transportation Demand Management (TDM) strategies and Intelligent Transportation System (ITS) strategies. As required by NEPA (National Environmental Policy Act), the EIS will also evaluate a “No Action” alternative as a baseline for comparing impacts of all alternatives.

The development of project alternatives is an ongoing process that will incorporate information identified during the public scoping process and from environmental and engineering evaluations. Public and agency input into the alternatives will be solicited through a series of public meetings, formation of a Technical Advisory Team (TAT), a project website and direct mailings including meeting announcements and newsletters. A public scoping open house was held on June 24, 2000 at the Gilpin County Library and at two casino locations in the towns of Black Hawk and Central City. Notices of this public meeting were mailed to local citizens, property owners and others and posted in local media. The many alternatives will be narrowed through a systematic screening process to a few recommended alternatives for full analysis in the draft EIS (DEIS). The DEIS will be available for public and agency review prior to a public hearing.

To ensure that the full range of issues related to this proposed action are addressed and all significant issues identified, comments and suggestions are invited from all interested parties. Comments or questions concerning this proposed action and the EIS should be directed to the Colorado Department of Transportation, Lisa Kassels, Project Manager CDOT Region 1, 18500 East Colfax Avenue, Aurora, CO 80011, (303) 757-9156 or lisa.kassels@dot.state.co.us.

(Catalog of Federal Domestic Assistance Program Number 20.205, Highway Planning and Construction. The regulations implementing Executive Order 12372 regarding intergovernmental consultation on Federal programs and activities apply to this program.)
Issued on: August 2, 2000.
Edrie L. Vinson,
Environmental/ROW Program Manager, Colorado Division, Federal Highway Administration, Lakewood, Colorado.

[FR Doc. 00-20398 Filed 8-10-00; 8:45 am]

BILLING CODE 4910-22-M